NUCLEAR REGULATORY COMMISSION

Carolina Power & Light Company

[Docket No. 50-261]

Notice of Withdrawal of Application for Amendment to Facility Operating License

The U.S. Nuclear Regulatory Commission (the Commission) has granted the request of Carolina Power & Light Company (the licensee), to withdraw its March 26, 1999, application for proposed amendment to Facility Operating License No. DPR-23 for the H. B. Robinson Steam Electric Plant, Unit No. 2, located in Darlington County, South Carolina.

The proposed amendment would have modified the facility technical specifications pertaining to the required action and completion time for the ultimate heat sink in the event that the service water temperature exceeded 95°F.

The Commission had previously issued a Notice of Consideration of Issuance of Amendment published in the Federal Register on July 28, 1999 (64 FR 40905). However, by letter dated April 25, 2000, the licensee withdrew the proposed change.

For further details with respect to this action, see the application for amendment dated March 26, 1999, and the licensee's letter dated April 25, 2000, which withdrew the application for license amendment. The above documents are available for public inspection at the Commission's Public Document Room, the Gelman Building, 2120 L Street, NW., Washington, DC, and accessible electronically through the ADAMS Public Electronic Reading Room link at the NRC Web site ­(http://www.nrc.gov).

Dated at Rockville, Maryland, this 3rd day of May 2000.
For the Nuclear Regulatory Commission.
Ram Subbaratnam,
Project Manager, Section 2, Project Directorate II, Division of Licensing Project Management, Office of Nuclear Reactor Regulation.

[FR Doc. 00-11801 Filed 5-10-00; 8:45 am]

BILLING CODE 7590-01-P